FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Computer-Security Incident Notification (FR 2231; OMB No. 7100-0384).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 2231.

Final Approval Under OMB Delegated Authority of the Extension for Three Years, Without Revision, of the Following Information Collection

Collection title: Computer-Security Incident Notification.

Collection identifier: FR 2231.

OMB control number: 7100-0384.

General description of collection: A banking organization is required to notify its primary Federal banking regulator of any “computer-security incident” that rises to the level of a “notification incident,” as soon as possible and no later than 36 hours after the banking organization determines that a notification incident has occurred (see 12 CFR 225.301(b)). A bank service provider is required to notify each affected banking organization customer as soon as possible when the bank service provider determines that it has experienced a computer-security incident, that has caused, or is reasonably likely to cause, a material service disruption or degradation for four or more hours.

Frequency: Event generated.

Respondents: U.S. bank holding companies, U.S. savings and loan holding companies, state member banks, U.S. operations of foreign banking organizations, Edge or agreement corporations, and bank service providers.

Total estimated number of respondents: 95.

Total estimated annual burden hours: 285.

Current actions: On December 6, 2024, the Board published a notice in the Federal Register (89 FR 96979) requesting public comment for 60 days on the extension, without revision, of the FR 2231. The comment period for this notice expired on February 4, 2025. The Board did not receive any comments.

Board of Governors of the Federal Reserve System, April 23, 2025.
Benjamin W. McDonough,
Deputy Secretary and Ombuds of the Board.

[FR Doc. 2025-07265 Filed 4-25-25; 8:45 am]

BILLING CODE 6210-01-P